DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before September 3, 2024.

ADDRESSES: You may submit comments identified by Docket No. MSHA-2024-0017 by any of the following methods:

1. Federal eRulemaking Portal: https://www.regulations.gov. Follow the instructions for submitting comments for MSHA-2024-0017.

2. Fax: 202-693-9441.

3. Email: petitioncomments@dol.gov

4. Regular Mail or Hand Delivery: MSHA, Office of Standards, Regulations, and Variances, 201 12th Street South, Suite 4E401, Arlington, Virginia 22202-5452. Attention: S. Aromie Noe, Director, Office of Standards, Regulations, and Variances. Persons delivering documents are required to check in at 4th Floor West. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Director, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 (Mine Act) and Title 30 of the Code of Federal Regulations (CFR) part 44 govern the application, processing, and disposition of petitions for modification.

I. Background

Section 101(c) of the Mine Act allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2024-008-C.

Petitioner: Fossil Rock Resources, LLC, 5125 N Cottonwood Road, Orangeville, UT 84537.

Mine: Fossil Rock Mine, MSHA ID No. 42-01211, located in Emery County, Utah.

Regulation Affected: 30 CFR 75.1909(b)(6).

Modification Request: The petitioner requests a modification of the existing standard, 30 CFR 75.1909(b)(6), to utilize alternative methods of compliance to permit the use of a road grader without front brakes.

The petitioner states that:

(a) Fossil Rock Mine may use the following model of grader or a similar model: Getman, Model 1504-C.

(b) The Getman graders were the subject of a previously granted petition for modification at the Skyline Mine No. 3 and Dugout Canyon Mine (M-1999-073-C).

(c) The Getman graders will be available for inspection at Skyline Mine No. 3.

(d) Service brakes on each wheel of the vehicle are designed such that failure of any single component, except the brake actuation pedal or other similar actuation device, must not result in a complete loss of service braking capability.

(e) The mine uses rubber-tired diesel equipment to transport personnel and supplies down the slope and into the mine. The Getman graders will be used to maintain the roadways traveled by the rubber-tired equipment. The coal seam is relatively flat in the areas that have been mined. At the time of the investigation by MSHA, Fossil Rock will provide a map which shows elevations to the extent possible.

(f) The Getman graders have a dual brake system on the four rear wheels and are designed to prevent loss of braking due to a single component failure. Each of the brake systems features an accumulator pressure gauge and a low-pressure warning light. The graders also have a spring applied, hydraulic release wet disc park and supplemental brake, transmission neutralizer, and test button for park brake testing. The independent braking systems are designed to operate even when oil, air, electrical or transmission pressure fails. These systems provide independent braking systems in lieu of brakes on the front wheels of the grader.

The petitioner proposes the following alternative method:

(a) Road grader operators shall limit the speed of the diesel graders to 10 miles per hour (mph) in either direction. This shall be accomplished by the following:

(1) Permanently blocking out the gear(s) or any gear ratio(s) that provide higher speeds. The device shall limit the vehicle speed in both forward and reverse; and

(2) Using transmission(s) and differential(s) geared in accordance with the equipment manufacturer which limits the maximum speed to 10 mph.

(b) Road grader operators will be trained on the provisions of this Petition for Modification and this training will be documented on a 5000-23 form. Training will include, but not be limited to the following:

(1) The braking limitations of the road grader.

(2) The speed of the road grader is limited to 10 mph or less.

(3) The fourth gear is not available.

(4) As the angle of a road or slope increases, speed should be reduced by operating at a lower gear.

(5) As an alternate means to control the speed of the road grader, the moldboard can be lowered to the mine floor.

(6) Within 60 days after the Proposed Decision and Order is granted by MSHA, the Petitioner shall submit proposed revisions for its approved 30 CFR part 48 training plan. These proposed revisions shall specify initial and refresher training regarding the conditions specified in the Petition.

Fossil Rock Mine has no designated miner's representative.

The Petitioner asserts that the alternative method proposed in the Petition will at all times guarantee no less than the same measure of protection afforded by 30 CFR 75.1909(b)(6).

Song-ae Aromie Noe,
Director, Office of Standards, Regulations, and Variances.

[FR Doc. 2024-16914 Filed 7-31-24; 8:45 am]

BILLING CODE 4520-43-P